DEPARTMENT OF ENERGY

Federal Energy Regulatory

[Docket No. CP07-10-000]

Dominion Transmission, Inc.; Notice of Intent To Prepare an Environmental Assessment for the Proposed TL-263 Expansion Project and Request for Comments on Environmental Issues

January 9, 2007.

The staff of the Federal Energy Regulatory Commission (FERC or Commission) is preparing an environmental assessment (EA) that will describe the impacts of constructing and operating the proposed natural gas pipeline TL-263 Expansion Project (Project) sponsored by Dominion Transmission Inc. (DTI).¹

¹ DTI's application was filed with the Commission under section 7 of the Natural Gas Act and Part 157 of the Commission's regulations.

The proposed Project would include the construction, replacement, installation, modification and operation of natural gas pipeline facilities in Boone and Wyoming Counties, West Virginia to increase the capacity, improve the efficiency and maintain the integrity of DTI's existing natural gas delivery system. Specifically, DTI is seeking authority to undertake the following activities:

• Construct approximately 6.43 miles of 12-inch-diameter natural gas pipeline and associated facilities (TL-570);

• Replace six 12-inch-diameter pipeline sections along the existing TL-263 natural gas pipeline (a total of approximately 601 feet of pipeline);

• Install overpressure protection; and

• Modify the existing Loup Creek Compressor Station.

A map indicating the general locations of the proposed Project facilities is provided in Appendix 1.²

² The appendices referenced in this notice are not being printed in the Federal Register. Copies of all appendices, other than Appendix 1 (maps), are available on the Commission's website at the “eLibrary” link or from the Commission's Public Reference Room, 888 First Street, NE., Washington, DC 20426, or call (202) 502-8371. For instructions on connecting to eLibrary refer to the last page of this notice.

Construction of the new 12-inch-diameter natural gas pipeline which would be known as TL-570 would be adjacent to the existing TL-263 pipeline and would require a 60- to 75-foot-wide construction right-of-way (ROW), affecting approximately 64.68 acres of land. Following construction, approximately 26.53 acres of land would be required for use as permanent ROW and associated aboveground facilities.

The replacement of the six 12-inch-diameter pipeline sections along the existing TL-263 natural gas pipeline would require a 75-foot-wide construction ROW, affecting approximately 5.17 acres of land. No additional lands would be required for maintenance of these replaced pipeline sections.

Other construction work areas, access roads and additional temporary work spaces would require the use of approximately 47.29 acres of land during construction and approximately 5.96 acres of land during operation.

Construction of the proposed Project would temporarily require the use of approximately 123.99 acres of land. Operation of the proposed Project would permanently require the use of approximately 32.49 acres of land.

If you are a landowner receiving this notice, you may be contacted by a DTI representative about the acquisition of an easement to support this project. DTI would seek to negotiate a mutually acceptable agreement for any easement; however, if the project is approved by the Commission, this approval conveys with it the right of eminent domain. If easement negotiations between you and DTI fail, it would have the authority to initiate condemnation proceedings.

A fact sheet prepared by the Commission entitled “An Interstate Natural Gas Facility on my Land? What do I need to know?” should have been attached to the project notice provided to landowners by DTI. This fact sheet addresses a number of typically asked questions, including the use of eminent domain and how to participate in the Commission's proceedings. This fact sheet is also available online at http://www.ferc.gov.

The EA Process

The National Environmental Policy Act (NEPA) requires the Commission to consider the environmental impacts of a proposed project whenever it considers the issuance of a Certificate of Public Convenience and Necessity as has been requested by DTI. NEPA also requires the Commission to undertake a process to identify and address concerns the public may have about proposed projects. This process is commonly referred to as “scoping”. The main goal of the “scoping” process is to identify public concerns and then address them in the EA. By this Notice of Intent, the Commission requests public comments on environmental issues that should be addressed in the EA.

The Commission's staff will prepare an EA that will describe the potential environmental impacts resulting from construction and operation of the proposed Project under the following general headings:

• Geology and Soils

• Water Resources and Wetlands

• Vegetation, Wildlife and Fisheries

• Threatened and Endangered or Special Status Species

• Land Use

• Cultural Resources

• Air Quality and Noise

• Reliability and Safety

The Commission's staff will also evaluate possible alternatives to the proposed project or portions of the project and make recommendations on how to lessen or avoid impacts to the identified environmental resources.

Upon completion of the staff's environmental assessment and depending on the issues identified and/or comments received during the “scoping” process, the EA may be published and mailed to federal, state and local government agencies; elected officials; environmental and public interest groups; affected landowners; other interested parties; local libraries and newspapers; and the Commission's official service list for this proceeding. A 30-day comment period would be allotted for review of the EA if it is published. Staff would consider all comments submitted concerning the EA before making their recommendations to the Commission.

To ensure your comments are considered, please carefully follow the instructions in the public participation section of this notice.

Public Participation

You can make a difference by providing us with your comments or concerns about the proposed project. By becoming a commentor, your comments and concerns will be addressed in the EA and considered by the Commission. The more specific your comments, the more useful they will be. Generally, comments are submitted regarding the potential environmental effects, reasonable alternatives and measures to avoid or lessen environmental impact.

This notice and request for environmental comments is being sent to affected landowners; federal, state and local government representatives and agencies; environmental and public interest groups; other interested parties in this proceeding; and local libraries and newspapers. We encourage government representatives to notify their constituents of this notice and to encourage their comments concerning this proposed project.

To ensure that your comments are properly recorded, please mail them to our office on or before February 8, 2007. When filing comments please:

• Send an original and two copies of your letter to: Magalie R. Salas, Secretary, Federal Energy Regulatory Commission, 888 First St., NE., Room 1A, Washington, DC 20426.

• Label one copy of your comments to the attention of Gas Branch 2, DG2E; and Reference Docket No. CP07-10-000 on the original and both copies

Please note that the Commission strongly encourages the electronic filing (“eFiling”) of comments, interventions or protests to this proceeding. Instructions on how to “eFile” comments can be found on the Commission's Web site at http://www.ferc.gov under the “Documents and Filings” link.

Becoming an Intervenor

In addition to participating in the EA scoping process, you may want to become an official party to the proceeding known as an “intervenor”. Intervenors play a more formal role in the process. Among other things, intervenors have the right to receive copies of case-related Commission documents and filings by other intervenors. Likewise, each intervenor must send one electronic copy (using the Commission's eFiling system) or 14 paper copies of its filings to the Secretary of the Commission and must send a copy of its filings to all other parties on the Commission's service list for this proceeding. If you want to become an intervenor you must file a motion to intervene according to Rule 214 of the Commission's Rules of Practice and Procedure (18 CFR 385.214) ³. Only intervenors have the right to seek rehearing of the Commission's decision.

³ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Environmental Mailing List

This notice has been sent to all known individuals, organizations, and government entities interested in and/or potentially affected by the proposed Project. This includes all landowners who are potential right-of-way grantors, whose property may be used temporarily for project purposes, or who own homes within distances defined in the Commission's regulations of certain aboveground facilities.

If you would like to remain on the environmental mailing list for this proposed project, please return the Mailing List Retention Form found in Appendix 2. If you do not comment on this project or return this form, you will be taken off of the staff's environmental mailing list.

Additional Information

Additional information about the proposed Project is available from the Commission's Office of External Affairs, at 1-866-208-FERC or on the FERC Internet Web site (http://www.ferc.gov).

To access information via the FERC Web site click on the “eLibrary” link then click on “General Search” and enter the docket number excluding the last three digits in the Docket Number field. Be sure you have selected an appropriate date range. The “eLibrary” link provides access to the texts of formal documents issued by the Commission, such as orders, notices, and rulemakings. For assistance with “eLibrary”, please contact FERC Online Support at FercOnlineSupport@ferc.gov or toll free at 1-866-208-3676, or for TTY, contact (202) 502-8659.

In addition, the Commission now offers a free service called eSubscription which allows you to keep track of all formal issuances and submittals in specific dockets. This can reduce the amount of time you spend researching proceedings by automatically providing you with notification of these filings, document summaries and direct links to these documents. To learn more about eSubscription and to sign-up for this service please go to http://www.ferc.gov/esubscribenow.htm.

Public meetings and/or site visits along with other Project related information will be posted on the Commission's calendar located at http://www.ferc.gov/EventCalendar/EventsList.aspx.

Magalie R. Salas,
Secretary.

[FR Doc. E7-445 Filed 1-12-07; 8:45 am]

BILLING CODE 6717-01-P